DEPARTMENT OF JUSTICE

Bureau of Alcohol, Tobacco, Firearms and Explosives

[OMB 1140-0067]

Agency Information Collection Activities; Proposed eCollection of eComments Requested; Revision of a Currently Approved Collection; Licensed Firearms Manufacturers Records of Production, Disposition, and Supporting Data

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed collection OMB 1140-0067 (Licensed Firearms Manufacturers Records of Production, Disposition, and Supporting Data) is being revised due to an increase in respondents, although the total responses and burden hours have reduced since the last renewal in 2018. This information collection is also being published to obtain comments from the public and affected agencies.

DATES: Comments are encouraged and will be accepted for 60 days until September 27, 2021.

FOR FURTHER INFORMATION CONTACT: If you have additional comments regarding the estimated public burden or associated response time, suggestions, or need a copy of the proposed information collection instrument with instructions, or additional information, please contact: Dawn Smith, ATF Firearms Industry Programs Branch, either by mail at 244 Needy Road, Martinsburg, WV 25405, by email at fipb-informationcollection@atf.gov, or by telephone at 202-648-0890.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: Licensed Firearms Manufacturers Records of Production, Disposition, and Supporting Data.

3. The agency form number, if any, and the applicable component of the Department sponsoring the collection:

Form number (if applicable): None.

Component: Bureau of Alcohol, Tobacco, Firearms and Explosives, U.S. Department of Justice.

4. Affected public who will be asked or required to respond, as well as a brief abstract:

Primary: Business or other for-profit.

Other (if applicable): None.

Abstract: Firearms manufacturers must create and maintain permanent records of all firearms manufactured and disposed of. These records support the Bureau of Alcohol, Tobacco, Firearms and Explosives' mission to inquire into the disposition of any firearm, during the course of during the course a criminal investigation.

5. An estimate of the total number of respondents and the amount of time estimated for an average respondent to respond: An estimated 10,513 respondents will respond 677.12822 times per year to this information collection, and it will take each respondent approximately 1.06 minutes to complete a response.

6. An estimate of the total public burden (in hours) associated with the collection: The estimated annual public burden associated with this collection is 123,801 hours, which is equal to 10,513 (# of respondents) * 677.12822 (# of responses per respondent) * .0176728 (1.06 minutes).

7. An Explanation of the Change in Estimates: The increase in total respondents by 1,457, is due to more firearms manufacturers responding to this collection. However, the total responses and burdens hours decreased by 4,378,792 and 75,4040 hours respectively, because less firearms were produced since the last renewal of this collection in 2018.

If additional information is required contact: Melody Braswell, Department Clearance Officer, United States Department of Justice, Justice Management Division, Policy and Planning Staff, Two Constitution Square, 145 N Street NE, Mail Stop 3E.405A, Washington, DC 20530.

Dated: July 22, 2021.
Melody Braswell,
Department Clearance Officer for PRA, U.S. Department of Justice.

[FR Doc. 2021-15946 Filed 7-26-21; 8:45 am]

BILLING CODE 4410-FY-P